DEPARTMENT OF TRANSPORTATION

Office of the Secretary

Notice of Applications for Certificates of Public Convenience and Necessity and Foreign Air Carrier Permits Filed Under Subpart B (Formerly Subpart Q) During the Week Ending September 1, 2012

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2012-0151.

Date Filed: August 31, 2012.

Due Date for Answers, Conforming Applications, or Motion to Modify Scope: Septebember 21, 2012.

Description: Application of Elitavia, Letalske Resitve, d.o.o. (“Elit'Avia”) requesting an exemption and a foreign air carrier permit authorizing Elit'Avia to engage in: (i) Foreign charter air transportation of persons, property, and mail from any point or points behind any Member State of the European Union, via any point or points in any EU Member State and via intermediate points, to any point or points in the United States and beyond; (ii) foreign charter air transportation of persons, property, and mail between any point or points in the United States and any point orpoints in any member of the European Common Aviation Area; (iii) other charters pursuant to the prior approval requirements set forth in the Department's regulations governing charters; and (iv) charter transportation authorized by any additional route rights made available to European Union carriers in the future, to the extent permitted by Elit'Avia's homeland license on file with the Department.

Renee V. Wright,
Program Manager, Docket Operations,
Federal Register Liaison.

[FR Doc. 2012-23672 Filed 9-25-12; 8:45 am]

BILLING CODE 4910-9X-P